DEPARTMENT OF ENERGY

Proposed Agency Information Collection Revision

AGENCY: Office of Energy Efficiency and Renewable Energy, U.S. Department of Energy.

ACTION: Notice and request for OMB review and comment.

SUMMARY: The Department of Energy (DOE) Office of Energy Efficiency and Renewable Energy (EERE) has submitted to the Office of Management and Budget (OMB) for clearance, a proposal for a three-year extension, with changes, of a collection of information under the provisions of the Paperwork Reduction Act of 1995. The proposed collection will provide DOE with the information necessary to meet its statutory and regulatory obligations under the National Environmental Policy Act (NEPA) of 1969 and the DOE NEPA implementing regulations, which requires EERE to perform environmental impact analyses prior to making a decision to provide Federal funding for research, development and demonstration projects funded by DOE.

DATES: Comments regarding this proposed information collection must be received on or before March 22, 2024. If you anticipate that you will be submitting comments but find it difficult to do so within the period of time allowed by this notice, please advise the DOE Desk Officer at OMB of your intention to make a submission as soon as possible. The Desk Officer may be telephoned at (202) 395-4718.

ADDRESSES: Written comments and recommendations for the proposed information collection should be sent within 30 days of publication of this notice to www.reginfo.gov/public/do/PRAMain. Find this information collection by selecting “Currently under 30-day Review—Open for Public Comments” or by using the search function.

And to: Andrew M. Montano at U.S. Department of Energy, 15013 Denver West Parkway, Golden, CO 80401, or by email at: EEREEQComments@ee.doe.gov.

FOR FURTHER INFORMATION CONTACT: Requests for additional information or copies of the EERE Environmental Questionnaire should be directed to Andrew M. Montano at: EREEQComments@ee.doe.gov. The EERE Environmental Questionnaire also is available for reviewing in the Golden Field Office Public Reading Room at: www.energy.gov/node/2299401. If you have difficulty accessing this document, please contact Casey Strickland at (720) 356-1575.

SUPPLEMENTARY INFORMATION: This information collection request contains: (1) OMB No.: 1910-5175; (2) Information Collection Request Title: Office of Energy Efficiency and Renewable Energy (EERE) Environmental Questionnaire; (3) Type of Request: Revision ; (4) Purpose: The DOE's EERE provides Federal funding through Federal assistance programs to businesses, industries, universities, and other groups for renewable energy and energy efficiency research and development and demonstration projects. The National Environmental Policy Act (NEPA) of 1969 (42 U.S.C. 4321 et seq.) requires that an environmental analysis be completed for all major Federal actions significantly affecting the environment including projects entirely or partly financed by Federal agencies. To effectively perform environmental analyses for these projects, the DOE's EERE needs to collect project-specific information from Federal financial assistance awardees. DOE's EERE has developed its Environmental Questionnaire to obtain the required information and ensure that its decision-making processes are consistent with NEPA as it relates to renewable energy and energy efficiency research and development and demonstration projects. Minor changes have been made to the Environmental Questionnaire that help to clarify certain questions as related to the Infrastructure Investment and Jobs Act (Bipartisan Infrastructure Law), but do not change the meaning of the questions being asked. These revisions include additional fields in Section 1 to collect award, funding, and contact information and additional fields in Section 3 of the Environmental Questionnaire to collect information about project location(s). The average hours per response have increased from one hour to one- and one-half hours and the revisions made should not add any additional time needed to complete the Environmental Questionnaire; (5) Annual Estimated Number of Total Responses: 300; (6) Average Hours per Response: 1.5; and (7) Annual Estimated Number of Burden Hours: 443; (8) Annual Estimated Respondent Costs: $29,238. There is no cost associated with reporting and recordkeeping.

Statutory Authority: National Environmental Policy Act (NEPA) (42 U.S.C. 4321 et seq.).

Signing Authority: This document of the Department of Energy was signed on February 14, 2024, by Matthew Blevins, Director, Environment, Safety and Health Office, Golden Field Office, Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 15, 2024.
Treena V. Garrett,
Federal Register Liaison Officer, U.S. Department of Energy.

[FR Doc. 2024-03470 Filed 2-20-24; 8:45 am]

BILLING CODE 6450-01-P